SOCIAL SECURITY ADMINISTRATION

[Docket No. SSA-2010-0037]

Future Systems Technology Advisory Panel Meeting

AGENCY: Social Security Administration (SSA).

ACTION: Notice of Eighth Panel Meeting.

DATES: August 3, 2010, 10 a.m.-5 p.m.

Location: Park Hyatt Washington DC, Hyde Park Room.

ADDRESSES: 24 & M Streets, NW., Washington, DC 20037.

SUPPLEMENTARY INFORMATION: Type of meeting: The meeting is open to the public.

Purpose: The Panel, under the Federal Advisory Committee Act of 1972, as amended, (hereinafter referred to as “the FACA”) shall report to and provide the Commissioner of Social Security independent advice and recommendations on the future of systems technology and electronic services at the agency five to ten years into the future. The Panel will recommend a road map to aid SSA in determining what future systems technologies may be developed to assist in carrying out its statutory mission. Advice and recommendations can relate to SSA's systems in the area of Internet application, customer service, or any other arena that would improve SSA's ability to serve the American people.

Agenda: The Panel will meet on Tuesday, August 3, 2010 from 10 a.m. until 5 p.m. The agenda will be available on the Internet at http://www.ssa.gov/fstap/index.htm or available by e-mail or fax on request, one week prior to the starting date.

During the eighth meeting, the Panel may have experts address items of interest and other relevant topics to the Panel. This additional information will further the Panel's deliberations and the effort of the Panel subcommittees.

Public comments will be heard on Tuesday, August 3, 2010, from 4:30 p.m. until 5 p.m. Individuals interested in providing comments in person should contact the Panel staff as outlined below to schedule a time slot. Members of the public must schedule a time slot in order to comment. In the event public comments do not take the entire scheduled time period, the Panel may use that time to deliberate or conduct other Panel business. Each individual providing public comment will be acknowledged by the Chair in the order in which they are scheduled to testify. Individuals providing public comment are limited to a maximum five-minute, verbal presentation. In lieu of public comments provided in person, individuals may provide written comments to the panel for their review and consideration. Comments in written or oral form are for informational purposes only for the Panel. Public comments will not be specifically addressed or receive a written response by the Panel.

For individuals that are hearing impaired and in need of sign language services please contact the Panel staff as outlined below at least 10 business days prior to the meeting so that timely arrangements can be made to provide this service.

Contact Information: Records are kept of all proceedings and will be available for public inspection by appointment at the Panel office. Anyone requiring information regarding the Panel should contact the staff by:

Mail addressed to SSA, Future Systems Technology Advisory Panel, Room 800, Altmeyer Building, 6401 Security Boulevard, Baltimore, MD 21235-0001; Telephone at 410-965-9951; Fax at 410-965-0201; or E-mail to FSTAP@ssa.gov.

Dianne L. Rose,
Designated Federal Officer, Future Systems Technology Advisory Panel.

[FR Doc. 2010-16349 Filed 7-2-10; 8:45 am]

BILLING CODE 4191-02-P